DEPARTMENT OF ENERGY

Federal Energy Regulatory Commission

[Docket Nos. CP01-76-005 and CP01-77-005]

Dominion Cove Point LNG, LP.; Notice of Compliance Filing

May 23, 2003.

Take notice that on May 20, 2003, Dominion Cove Point LNG, LP (Dominion Cove Point) tendered for filing as part of its FERC Gas Tariff, Original Volume No. 1, the following tariff sheets, with an effective date of June 1, 2003:

Second Revised Sheet No. 5

Second Revised Sheet No. 6

Second Revised Sheet No. 7

Second Revised Sheet No. 10

Second Revised Sheet No. 11

On February 28, 2003, the Commission accepted for filing in the above-referenced dockets tariff sheets implementing the rate schedules and other tariff changes associated with the reactivation of the LNG import facilities at Dominion Cove Point, with certain sheets effective March 1, 2003 and others to be effective June 1, 2003. Dominion Cove Point states that in filings that led to its decision it had estimated that its import facility would be reactivated by June 1, 2003. By letter being contemporaneously filed with the Commission in these proceedings, Dominion Cove Point is now informing the Commission of its current estimate of the date by which the LNG facilities will be reactivated—July 22, 2003.

Dominion Cove Point proposes to replace the lower rates for other services currently accepted by the Commission for a June 1 effective date with the pre-reactivation rates as reflected in the sheets submitted herein until the Commission approves the date on which the import facilities will be placed in service. Dominion Cove Point states that when the Commission issues its order placing those facilities in service, Dominion Cove Point will immediately file the post-reactivation rate and fuel sheets to be effective on the date approved by the Commission. Dominion Cove Point also notes that none of the sheets filed in Docket No. RP03-392-000 as a result of the Commission's order issued February 27, 2003, in Docket Nos. CP01-76-000, et al., 102 FERC ¶ 61,227 are affected.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 2, 2003.

Magalie R. Salas,
Secretary.

[FR Doc. 03-13612 Filed 5-30-03; 8:45 am]

BILLING CODE 6717-01-P